DEPARTMENT OF COMMERCE

National Oceanic and Atmospheric Administration

RIN 0648-XG750

Fisheries of the South Atlantic; South Atlantic Fishery Management Council; Public Meetings

AGENCY: National Marine Fisheries Service (NMFS), National Oceanic and Atmospheric Administration (NOAA), Commerce.

ACTION: Notice of meeting of the South Atlantic Fishery Management Council's Executive Finance Committee.

SUMMARY: The South Atlantic Fishery Management Council (Council) will hold a meeting of its Executive Finance Committee via webinar to discuss development of the Council's annual budget.

DATES: The meeting will be held February 8, 2019, from 8:30 a.m. until 12:30 p.m.

ADDRESSES: The meeting will be held via webinar. The meeting is open to the public. Registration for the webinar is required. Persons interested in the meeting, please contact the Council office for details.

FOR FURTHER INFORMATION CONTACT: Gregg Waugh, Executive Director, SAFMC; phone: (843) 302-8433 or toll free: (866) SAFMC-10; fax: (843) 769-4520; email: Gregg.Waugh@safmc.net.

SUPPLEMENTARY INFORMATION: The Council's Executive Finance Committee will meet via webinar to discuss development of the Council's Calendar Year budget for January through December 2019. Please contact the Council office for details.

Special Accommodations

This meeting is physically accessible to people with disabilities. Requests for auxiliary aids should be directed to the Council office (see ADDRESSES) at least 10 business days prior to the webinar.

Authority: 16 U.S.C. 1801 et seq.

Dated: February 1, 2019.
Jennifer M. Wallace,
Acting Director, Office of Sustainable Fisheries, National Marine Fisheries Service.

[FR Doc. 2019-01214 Filed 2-5-19; 8:45 am]

BILLING CODE 3510-22-P